DEPARTMENT OF HEALTH AND HUMAN SERVICES

Announcing the Annual Meeting of the President's Council on Sports, Fitness & Nutrition

AGENCY: Office of Disease Prevention and Health Promotion, Office of the Assistant Secretary for Health, Office of the Secretary, Department of Health and Human Services.

ACTION: Notice.

SUMMARY: As stipulated by the Federal Advisory Committee Act, the U.S. Department of Health and Human Services (HHS) is hereby giving notice that the President's Council on Sports, Fitness & Nutrition (PCSFN) will hold its annual meeting. The meeting will be open to the public.

DATES: This meeting will be held on June 27, 2023, from 1:30 p.m. to 5:00 p.m. ET.

ADDRESSES: The meeting will be held at the Hubert H. Humphrey Building, 200 Independence Ave SW, Washington, DC 20001. The meeting will also be accessible online via livestream and recorded for later viewing. Registrants will receive information on how to access the meeting, either in-person or via livestream, prior to the meeting.

FOR FURTHER INFORMATION CONTACT: Designated Federal Officer for the PCSFN, Rachel Fisher, MS, MPH, RD; HHS/OASH/ODPHP, 1101 Wootton Parkway, Suite 420, Rockville, MD 20852, 240-453-8257; Email fitness@hhs.gov. Information about PCSFN, including details about the upcoming meeting, can be obtained at https://health.gov/our-work/nutrition-physical-activity/presidents-council.

SUPPLEMENTARY INFORMATION:

Authority and Purpose: The primary functions of the PCSFN include: (1) Advising the President, through the Secretary, concerning the progress made in carrying out the provisions of Executive Order 13265, as amended by Executive Order 14048, and recommending to the President, through the Secretary, actions to accelerate such progress; (2) recommending to the Secretary, actions to expand opportunities at the national, state, and local levels for participation in sports and engagement in physical fitness and activity (taking into account the HHS Physical Activity Guidelines for Americans, including consideration for youth with disabilities); and (3) functioning as liaisons and spokespersons on behalf of the PCSFN to relevant State, local, and private entities, and sharing information about the work of the PCSFN in order to advise the Secretary regarding opportunities to extend and improve physical activity, fitness, sports, and nutrition programs and services at the State, local, and national levels.

Purpose of the Meeting: At the June 2023 meeting, the PCSFN will discuss plans for future projects and programs that may address but are not limited to: (1) implementing the National Strategy on Hunger, Nutrition, and Health, including supporting the White House Challenge to End Hunger and Build Healthy Communities; (2) raising awareness about the importance of mental health as it pertains to physical fitness and nutrition; (3) promoting the implementation of the National Youth Sports Strategy; (4) revitalizing the Presidential Youth Fitness Program; and (5), the launch of the Physical Activity Guidelines Midcourse Report: Implementation Strategies for Older Adults.

Meeting Agendas: The meeting agenda is in development and will be posted at https://health.gov/our-work/nutrition-physical-activity/presidents-council/council-meetings when it is finalized.

Meeting Registration: The meeting is open to the public and the media. Members of the public who wish to attend the meeting are asked to pre-register at https://www.eventbrite.com/e/2023-presidents-council-on-sports-fitness-nutrition-annual-meeting-tickets-642518348677. HHS will also stream the meeting online via HHS.gov/live. Registration for in-person public attendance must be completed before 5:00 p.m. (ET) on Monday, June 19, 2023. Foreign nationals who wish to attend in person should register no later than Thursday, June 15, 2023, to ensure sufficient time for federal building security approval. To request a sign language interpreter or other special accommodations, please indicate this when registering online or by notifying fitness@hhs.gov, no later than 5:00 p.m. (ET) on Friday, June 16, 2023.

Paul Reed,
Deputy Assistant Secretary for Health, Office of Disease Prevention and Health Promotion.

[FR Doc. 2023-12692 Filed 6-13-23; 8:45 am]

BILLING CODE 4150-32-P